ENVIRONMENTAL PROTECTION AGENCY

[FRL OP-OFA-024]

Environmental Impact Statements; Notice of Availability

Responsible Agency: Office of Federal Activities, General Information 202-564-5632 or https://www.epa.gov/nepa.

Weekly receipt of Environmental Impact Statements (EIS)

Filed June 27, 2022 10 a.m. EST Through July 1, 2022

10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220091, Draft Supplement, NRC, WI, Environmental Impact Statement Related to the Operating License for the SHINE Medical Isotope Production Facility, Supplement 1, Comment Period Ends: 08/22/2022, Contact: Lance Rakovan 301-415-2589.

EIS No. 20220092, Second Draft Supplemental, DOE, AR, Long Term Management and Storage of Elemental Mercury, Comment Period Ends: 08/22/2022, Contact: Julia Donkin 202-586-5000.

EIS No. 20220093, Draft, FERC, ID, GTN XPress Project, Comment Period Ends: 08/22/2022, Contact: Office of External Affairs 866-208-3372.

EIS No. 20220094, Draft, BLM, NV, Goldrush Mine Project, Comment Period Ends: 08/22/2022, Contact: Scott Distel 775-635-4093.

EIS No. 20220095, Final, USFS, NM, Carson National Forest Revision of Land and Resource Management Plan, Review Period Ends: 08/08/2022, Contact: Peter Rich 575-758-6277.

Dated: July 1, 2022.
Marthea Rountree,
Acting Director, NEPA Compliance Division, Office of Federal Activities.

[FR Doc. 2022-14555 Filed 7-7-22; 8:45 am]

BILLING CODE 6560-50-P